DEPARTMENT OF TRANSPORTATION

Federal Aviation Administration

14 CFR Part 39

[Docket No. FAA-2014-0774; Directorate Identifier 2013-NM-154-AD]

RIN 2120-AA64

Airworthiness Directives; The Boeing Company Airplanes

AGENCY: Federal Aviation Administration (FAA), DOT.

ACTION: Supplemental notice of proposed rulemaking (SNPRM); reopening of comment period.

SUMMARY: We are revising an earlier proposed airworthiness directive (AD) that proposed to supersede AD 2006-22-15 for all The Boeing Company Model 747-100, 747-100B, 747-100B SUD, 747-200B, 747-200C, 747-200F, 747-300, 747-400, 747-400D, 747-400F, 747SR, and 747SP series airplanes. AD 2006-22-15 requires repetitive inspections for cracking of certain panel webs and stiffeners of the nose wheel well (NWW), and corrective actions if necessary; and replacement of certain panels with new panels, which terminates the repetitive inspections. The notice of proposed rulemaking (NPRM) proposed to reduce a compliance time and add certain inspections and applicable repair. The NPRM was prompted by reports of fatigue cracking in the panel webs and stiffeners of the NWW found prior to the inspection threshold of AD 2006-22-15. This action revises the NPRM by specifying a repetitive inspection interval for a certain NWW area inspection. We are proposing this SNPRM to prevent fatigue cracking of the NWW side and top panels, which could result in a NWW depressurization event severe enough to reduce the structural integrity of the fuselage. Since these actions impose an additional burden over that proposed in the NPRM, we are reopening the comment period to allow the public the chance to comment on these proposed changes.

DATES: We must receive comments on this SNPRM by November 2, 2015.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this proposed AD, contact Boeing Commercial Airplanes, Attention: Data & Services Management, P. O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221. It is also available on the Internet at http://www.regulations.gov by searching for and locating Docket No. FAA-2014-0774.

Examining the AD Docket

You may examine the AD docket on the Internet at http://www.regulations.gov by searching for and locating Docket No. FAA-2014-0774; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Bill Ashforth, Aerospace Engineer, Airframe Branch, ANM-120S, FAA, Seattle Aircraft Certification Office (ACO), 1601 Lind Avenue SW., Renton, WA 98057-3356; phone: 425-917-6432; fax: 425-917-6590; email: Bill.Ashforth@faa.gov.

SUPPLEMENTARY INFORMATION:

Comments Invited

We invite you to send any written relevant data, views, or arguments about this proposed AD. Send your comments to an address listed under the ADDRESSES section. Include “Docket No. FAA-2014-0774; Directorate Identifier 2013-NM-154-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We issued an NPRM to amend 14 CFR part 39 to supersede AD 2006-22-15, Amendment 39-14812 (71 FR 64884, November 6, 2006). AD 2006-22-15 applies to all Model 747-100, 747-100B, 747-100B SUD, 747-200B, 747-200C, 747-200F, 747-300, 747-400, 747-400D, 747-400F, 747SR, and 747SP series airplanes. The NPRM published in the Federal Register on November 17, 2014 (79 FR 68388). The NPRM was prompted by reports of fatigue cracking in the panel webs and stiffeners of the NWW found prior to the inspection threshold of AD 2006-22-15. The NPRM proposed to continue to require repetitive inspections for cracking of certain panel webs and stiffeners of the NWW, and corrective actions if necessary. The NPRM also proposed to continue to require replacing certain panels with new panels, which would terminate the repetitive inspections. The NPRM proposed to reduce a compliance time and add certain inspections and applicable repair.

Actions Since Previous NPRM (79 FR 68388, November 17, 2014) Was Issued

Since we issued the NPRM (79 FR 68388, November 17, 2014), we have determined that it is necessary to revise the NPRM by specifying a certain repetitive inspection interval for Area 2 for airplanes with less than 15,000 total flight cycles. This interval is not clearly indicated in table 1 of paragraph 1.E., “Compliance,” of Boeing Service Bulletin 747-53A2465, Revision 5, dated July 11, 2013, and was not specifically stated in the NPRM.

Related Service Information Under 1 CFR Part 51

We reviewed the following Boeing service information. Refer to this service information for information on the procedures and compliance times.

• Boeing Service Bulletin 747-53A2465, Revision 5, dated July 11, 2013, which describes procedures for inspections for cracks of certain top and sidewall panel webs and stiffeners of the NWW; and repairs.

• Boeing Service Bulletin 747-53A2562, Revision 3, dated July 11, 2013. This service bulletin describes procedures for replacement of the side and top panel webs and certain stiffeners of the NWW; an inspection for cracks in attaching structural elements that are common to the removed top panel and side panels; repetitive post-modification inspections for cracks in the top and side panel webs and stiffeners; and contacting Boeing for repairs.

• Boeing Alert Service Bulletin 747-53A2808, dated November 30, 2012. This service bulletin describes procedures for replacement of the side and top panel webs, support beams, and stiffeners of the NWW; an inspection for cracks of the attaching structural elements that are common to the removed top and side panels of the NWW; repetitive post-modification inspections for cracks in the top and side panel webs and stiffeners; and contacting Boeing for repairs.

This service information is reasonably available because the interested parties have access to it through their normal course of business or by the means identified in the ADDRESSES section of this AD.

Comments

We gave the public the opportunity to comment on the NPRM (79 FR 68388, November 17, 2014). The following presents the comments received on the NPRM and the FAA's response to each comment.

Requests To Specify Repetitive Inspection Interval for Area 2

United Airlines (UAL) and United Parcel Service (UPS) requested that we specify the repetitive inspection interval for Area 2 for airplanes with less than 15,000 total flight cycles. The commenters point out that this is not clearly indicated in table 1 of paragraph 1.E., “Compliance,” of Boeing Service Bulletin 747-53A2465, Revision 5, dated July 11, 2013, and was not specifically stated in the NPRM (79 FR 68388, November 17, 2014). The commenters stated that Boeing has issued a service bulletin information notice to inform operators that the repetitive inspection interval for Area 2 should be 1,000 flight cycles.

We agree with the commenters' requests to specify the repeat interval for Area 2. We have revised paragraph (g) of this SNPRM to specify this interval.

Request To Specify Repair Procedures

UAL asked whether paragraph (h)(3) of the proposed AD (79 FR 68388, November 17, 2014) should be revised to specify repair requirements for each area, instead of contacting the FAA or the Boeing Commercial Airplanes Organization Designation Authorization (ODA) for repair instructions for any cracking or damage found during the inspection specified in paragraph (g) of the proposed AD. UAL explained that Boeing Service Bulletin 747-53A2465, Revision 5, dated July 11, 2013, specifies repairing web cracks in Area 1 or 2 per the “747 Structural Repair Manuals.”

We agree to provide clarification. The intent of paragraph (h)(3) of this SNPRM is to make sure that for those conditions for which Boeing Service Bulletin 747-53A2465, Revision 5, dated July 11, 2013, specifies that the operator is to contact Boeing for repair data, the operator would be required to use a repair method approved by the FAA or Boeing Commercial Airplanes ODA. We have not changed this SNPRM in this regard.

Request To Clarify Certain Compliance Times

UAL requested clarification of why the footnotes in table 2 of paragraph 1.E., “Compliance,” of Boeing Service Bulletin 747-53A2465, Revision 5, dated July 11, 2013, reverted back to 6,000 flight cycles for Area 3 inspections for cracks of the sidewall panel and top panel stiffeners. UAL also asked why the 6,000-flight-cycle time is just for the first repeat inspection and then Area 3 has to be reinspected every 1,500 flight cycles thereafter.

We agree that clarification is necessary. Paragraph (f)(2) of AD 2006-22-15, Amendment 39-14812 (71 FR 64884, November 6, 2006), specifies the 6,000-flight-cycle and 1,500-flight-cycle inspection times. Boeing Service Bulletin 747-53A2465, Revision 5, dated July 11, 2013, states that inspections and corrective actions defined therein are an alternative method of compliance (AMOC) to the requirements of paragraphs (f), (g), (h), (i), and (j) of AD 2006-22-15. In order to be approved as an AMOC to certain requirements of AD 2006-22-15, Boeing Service Bulletin 747-53A2465, Revision 5, dated July 11, 2013, must state the compliance times required by AD 2006-22-15 to address the identified unsafe condition. We have not changed this SNPRM in this regard.

Request To Revise Certain Headers To Clarify Intent of Requirements

Boeing requested that we revise the heading of paragraph (g) of the proposed AD (79 FR 68388, November 17, 2014) to either change “Repetitive Inspections” to “Initial and Repetitive Inspections” or delete “Repetitive.” Boeing stated that paragraph (g) of the proposed AD contains both initial and repetitive inspections.

Boeing requested that we delete “Repetitive” from the headings of paragraphs (j) and (m) of the proposed AD (79 FR 68388, November 17, 2014). Boeing stated that paragraphs (j) and (m) of the proposed AD specify not only repetitive inspections, but also the initial post-modification inspections.

We agree that clarification is necessary. We do not consider that the term “repetitive” necessarily excludes the initial action. An action cannot be repeated without accomplishment of the initial action. Many existing ADs refer to “repetitive” actions, which we intend as including the initial action. In addition, changing “Repetitive Inspections” to simply “Inspections” could result in the misinterpretation that multiple different inspections are required. We have not changed this SNPRM regarding this issue.

Request To Clarify Inspection Location

Boeing requested that, at the end of paragraph (g)(3) of the proposed AD (79 FR 68388, November 17, 2014), we add “of the NWW (specified as Area 1 and Area 2 in Boeing Service Bulletin 747-53A2465, Revision 5, dated July 11, 2013)” for the ultrasonic inspection.

We agree with the commenter's request. This revision will make the wording in paragraph (g)(3) of this proposed AD consistent with the wording of each of the areas specified in paragraphs (g)(1) and (g)(2) of this proposed AD. We have revised paragraph (g)(3) of this proposed AD accordingly.

Request To Add New AMOC Limitation

Boeing requested that we add a new paragraph (p)(6) to the NPRM (79 FR 68388, November 17, 2014), which would state that “New provisions (inspection threshold and interval) in this AD must be complied with as given in this AD.” Boeing stated that this statement will make it clear that prior AMOCs do not exempt the operators from compliance with new requirements added by this new proposed AD. Boeing also stated that the wording of “corresponding provisions” in paragraph (p)(4) of the proposed AD (79 FR 68388, November 17, 2014) might not be precise enough, when ADs get superseded and paragraphs change. Boeing explained that adding this statement will reduce the ambiguity of paragraphs (o) and (p) of the proposed AD.

We partially agree with the commenter's request. We have revised paragraph (p)(4) of this proposed AD to state that AMOC actions approved previously for AD 2006-22-15, Amendment 39-14812 (71 FR 64884, November 6, 2006), are approved as AMOCs for the corresponding actions of this AD. The compliance times in AMOCs approved previously for AD 2006-22-15 are not approved for the corresponding actions and compliance times in this AD. We have removed paragraph (p)(5) of this proposed AD as it is no longer necessary. We consider this language to be sufficiently clear. Adding the commenter's requested language would be redundant to the language specified in revised paragraph (p)(4) of this proposed AD.

Requests for Certain Editorial Changes

Boeing noted that paragraph (m) of the proposed AD (79 FR 68388, November 17, 2014) incorrectly referred to paragraphs “(l)(1), (l)(2), and (l)(3).” Boeing asked that we change these references to “(m)(1), (m)(2), and (m)(3).”

Boeing requested that we correct the AD citation in paragraph (o)(1)(i) of the proposed AD (79 FR 68388, November 17, 2014). Boeing stated that the identified effective date of January 27, 2005, is for AD 2004-25-23, Amendment 39-13911 (69 FR 76839, December 23, 2004); not AD 2005-09-02, Amendment 39-14070 (70 FR 21141, April 25, 2005; corrected May 25, 2005, 70 FR 29940)); as stated in the NPRM.

Boeing requested that we correct the date of Boeing Service Bulletin 747-53A2465, Revision 4, from February 25, 2004, to February 24, 2005, in paragraph (o)(2) of the proposed AD (79 FR 68388, November 17, 2014).

UPS requested that we revise paragraph (p)(1) of the proposed AD (79 FR 68388, November 17, 2014) to correct the paragraph identifier for the contact person, which should be paragraph “(q)(1).”

We agree with the requests and have revised this SNPRM accordingly.

FAA's Determination

We are proposing this SNPRM because we evaluated all the relevant information and determined the unsafe condition described previously is likely to exist or develop in other products of this same type design. Certain changes described above expand the scope of the NPRM (79 FR 68388, November 17, 2014). As a result, we have determined that it is necessary to reopen the comment period to provide additional opportunity for the public to comment on this SNPRM.

Proposed Requirements of This SNPRM

Although this proposed AD does not explicitly restate certain requirements of AD 2006-22-15, Amendment 39-14812 (71 FR 64884, November 6, 2006), this proposed AD would retain all of the requirements of AD 2006-22-15.

The requirements specified in paragraphs (f), (g), (h), (i), (j), and (l) of AD 2006-22-15, Amendment 39-14812 (71 FR 64884, November 6, 2006), are referenced in Boeing Service Bulletin 747-53A2465, Revision 5, dated July 11, 2013, which, in turn, is referenced in paragraphs (g) and (h)(3) of this proposed AD.

The requirement specified in paragraph (n) of AD 2006-22-15, Amendment 39-14812 (71 FR 64884, November 6, 2006), is referenced in Boeing Service Bulletin 747-53A2562, Revision 3, dated July 11, 2013, which, in turn, is referenced in paragraph (i) of this proposed AD.

For Group 2 airplanes identified in Boeing Service Bulletin 747-53A2562, Revision 1, dated July 28, 2005, and certain airplanes not identified in Boeing Service Bulletin 747-53A2562, Revision 1, dated July 28, 2005, the requirement specified in paragraph (o) of AD 2006-22-15, Amendment 39-14812 (71 FR 64884, November 6, 2006), to accomplish a repair using a method approved by the FAA is now specified in paragraph (i) of this proposed AD. However, for these airplanes, one method of compliance for accomplishing the replacement is Boeing Service Bulletin 747-53A2562, Revision 3, dated July 11, 2013. Therefore, we have referred to Boeing Service Bulletin 747-53A2562, Revision 3, dated July 11, 2013, in paragraph (i) of this proposed AD. Operators may still request an alternative method of compliance (AMOC) using the procedures provided in paragraph (p) of this AD.

For certain other airplanes not identified in Boeing Service Bulletin 747-53A2562, Revision 1, dated July 28, 2005, the requirement specified in paragraph (o) of AD 2006-22-15, Amendment 39-14812 (71 FR 64884, November 6, 2006), to accomplish a repair using a method approved by the FAA is now specified in paragraph (l) of this proposed AD. However, for these airplanes, one method of compliance for accomplishing the replacement is Boeing Alert Service Bulletin 747-53A2808, dated November 30, 2012. Therefore, we have referred to Boeing Alert Service Bulletin 747-53A2808, dated November 30, 2012, in paragraph (l) of this proposed AD. Operators may still request an AMOC using the procedures provided in paragraph (p) of this AD.

This proposed AD would require accomplishing the actions specified in the service information identified previously, except as discussed under “Differences Between the Proposed AD and the Service Information.” Refer to this service information for information on the procedures and compliance times.

The phrase “related investigative actions” is used in this proposed AD. “Related investigative actions” are follow-on actions that (1) are related to the primary actions, and (2) further investigate the nature of any condition found. Related investigative actions in an AD could include, for example, inspections.

The phrase “corrective actions” is used in this proposed AD. “Corrective actions” are actions that correct or address any condition found. Corrective actions in an AD could include, for example, repairs.

Differences Between the Proposed AD and the Service Information

For airplanes with fewer than 15,000 total flight cycles, Boeing Service Bulletin 747-53A2465, Revision 5, dated July 11, 2013, recommends, in part, accomplishing a detailed inspection before the accumulation of 13,000 total flight cycles. However, we have determined that the 13,000-total-flight-cycle compliance time is insufficient to address the identified unsafe condition soon enough to ensure an adequate level of safety for the affected fleet. Instead, we are proposing a compliance time of 10,000 total flight cycles. In developing an appropriate compliance time for this detailed inspection, we considered the degree of urgency associated with the subject unsafe condition, and the fact that we have received a report of a 13-inch crack adjacent to a 2-inch crack in the NWW right-hand side panel on an airplane with 11,428 total flight cycles. This difference has been coordinated with The Boeing Company.

Boeing Service Bulletin 747-53A2465, Revision 5, dated July 11, 2013; Boeing Service Bulletin 747 53A2562, Revision 3, dated July 11, 2013; and Boeing Alert Service Bulletin 747-53A2808, dated November 30, 2012; specify to contact the manufacturer for instructions on how to repair certain conditions, but this proposed AD would require repairing those conditions in one of the following ways:

• In accordance with a method that we approve; or

• Using data that meet the certification basis of the airplane, and that have been approved by the Boeing Commercial Airplanes ODA whom we have authorized to make those findings.

Explanation of Compliance Time

The compliance time for the modification specified in paragraphs (i) and (l) of this proposed AD for addressing widespread fatigue damage (WFD) was established to ensure that discrepant structure is modified before WFD develops in airplanes. Standard inspection techniques cannot be relied on to detect WFD before it becomes a hazard to flight. We will not grant any extensions of the compliance time to complete any AD-mandated service bulletin related to WFD without extensive new data that would substantiate and clearly warrant such an extension.

Costs of Compliance

We estimate that this proposed AD affects 255 airplanes of U.S. registry.

We estimate the following costs to comply with this proposed AD:

Estimated Costs
Action | Labor cost | Parts cost | Cost per product | Cost on U.S. operators
Inspections [actions retained from AD 2006-22-15, Amendment 39-14812 (71 FR 64884, November 6, 2006)] | 119 work-hours × $85 per hour = $10,115 per inspection cycle | $0 | $10,115 per inspection cycle | $2,579,325 per inspection cycle.
Modification [actions retained from AD 2006-22-15, Amendment 39-14812 (71 FR 64884, November 6, 2006)] | Up to 1,346 work-hours × $85 per hour = $114,410 | Up to $144,248 | Up to $258,658 | Up to $65,957,790.
Post-modification Inspections [new proposed action] | 119 work-hours × $85 per hour = $10,115 per inspection cycle | $0 | $10,115 per inspection cycle | $2,579,325 per inspection cycle.

We have received no definitive data that would enable us to provide cost estimates for the on-condition actions specified in this proposed AD.

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

The Boeing Company: Docket No. FAA-2014-0774; Directorate Identifier 2013-NM-154-AD.

(a) Comments Due Date

We must receive comments by November 2, 2015.

(b) Affected ADs

This AD replaces AD 2006-22-15, Amendment 39-14812 (71 FR 64884, November 6, 2006).

(c) Applicability

This AD applies to all Boeing Model 747-100, 747-100B, 747-100B SUD, 747-200B, 747-200C, 747-200F, 747-300, 747-400, 747-400D, 747-400F, 747SR, and 747SP series airplanes, certificated in any category.

(d) Subject

Air Transport Association (ATA) of America Code 53, Fuselage.

(e) Unsafe Condition

This AD was prompted by multiple reports of cracking in the nose wheel well (NWW) top panel and side panel webs and stiffeners caused by fatigue. We are issuing this AD to prevent fatigue cracking of the NWW side and top panels, which could result in a NWW depressurization event severe enough to reduce the structural integrity of the fuselage.

(f) Compliance

Comply with this AD within the compliance times specified, unless already done.

(g) Repetitive Inspections and Corrective Actions With New Compliance Times

Except as specified in paragraphs (h)(1) and (h)(2) of this AD, at the applicable time specified in paragraph 1.E., “Compliance,” of Boeing Service Bulletin 747-53A2465, Revision 5, dated July 11, 2013: Do the actions specified in paragraphs (g)(1), (g)(2), and (g)(3) of this AD, and do all applicable related investigative and corrective actions; in accordance with the Accomplishment Instructions of Boeing Service Bulletin 747-53A2465, Revision 5, dated July 11, 2013, except as specified in paragraph (h)(3) of this AD. Do all applicable related investigative and corrective actions before further flight. Repeat the inspections specified in paragraphs (g)(1), (g)(2), and (g)(3) of this AD thereafter at the applicable intervals specified in paragraph 1.E., “Compliance,” of Boeing Service Bulletin 747-53A2465, Revision 5, dated July 11, 2013. The repetitive interval for the inspection of Area 2 specified in table 1 in paragraph 1.E., “Compliance,” of Boeing Service Bulletin 747-53A2465, Revision 5, dated July 11, 2013, is 1,000 flight cycles. In table 2 and table 3 in paragraph 1.E., “Compliance,” of Boeing Service Bulletin 747-53A2465, Revision 5, dated July 11, 2013, the date “January 27, 2005” is the effective date of AD 2004-25-23, Amendment 39-13911 (69 FR 76839, December 23, 2004); and the date “May 10, 2005” is the effective date of AD 2005-09-02, Amendment 39-14070 (70 FR 21141, April 25, 2005; corrected May 25, 2005 (70 FR 29940)).

(1) Do an external detailed inspection for cracks of the top and sidewall panel webs of the NWW (specified as Area 1 and Area 2 in Boeing Service Bulletin 747-53A2465, Revision 5, dated July 11, 2013).

(2) Do internal detailed and surface high frequency eddy current (HFEC) inspections for cracks of the sidewall panel and top panel stiffeners of the NWW (specified as Area 3 in Boeing Service Bulletin 747-53A2465, Revision 5, dated July 11, 2013).

(3) Do an external detailed and ultrasonic testing (UT) inspection for cracks of the top and sidewall panel webs of the NWW (specified as Area 1 and Area 2 in Boeing Service Bulletin 747 -53A2465, Revision 5, dated July 11, 2013).

(h) Exceptions to Boeing Service Bulletin 747-53A2465, Revision 5, dated July 11, 2013

(1) Table 1 in paragraph 1.E., “Compliance,” of Boeing Service Bulletin 747-53A2465, Revision 5, dated July 11, 2013, applies to airplanes with less than 15,000 total flight cycles “as of the Revision 5 date of this service bulletin.” For this AD, however, table 1 applies to airplanes with the specified total flight cycles as of the effective date of this AD.

(2) Table 1 in paragraph 1.E., “Compliance,” of Boeing Service Bulletin 747-53A2465, Revision 5, dated July 11, 2013, specifies a compliance time of “13,000 total flight-cycles,” or “within 1,000 flights cycles after the Revision 5 date of this service bulletin,” whichever occurs later. This AD requires compliance before the accumulation of 10,000 total flight cycles or within 1,000 flight cycles after the effective date of this AD, whichever occurs later.

(3) If any cracking or damage is found during any inspection required by paragraph (g) of this AD, and Boeing Service Bulletin 747-53A2465, Revision 5, dated July 11, 2013, specifies to contact Boeing for appropriate action: Before further flight, repair the cracking or damage using a method approved in accordance with the procedures specified in paragraph (p) of this AD.

(i) NWW Modification

For airplanes identified in Boeing Service Bulletin 747-53A2562, Revision 3, dated July 11, 2013: At the applicable time specified in paragraph 1.E., “Compliance,” of Boeing Service Bulletin 747-53A2562, Revision 3, dated July 11, 2013, replace the left-side, right-side, and top panels of the NWW, as applicable, with new panels, in accordance with the Accomplishment Instructions of Boeing Service Bulletin 747-53A2562, Revision 3, dated July 11, 2013. As of the effective date of this AD, concurrently with doing the replacement specified in Boeing Service Bulletin 747-53A2562, Revision 3, dated July 11, 2013, do a detailed inspection for any cracks or damage (including, but not limited to, dents and corrosion) in all attaching structural elements that are common to the removed top panel and side panels, as applicable, and do all applicable corrective actions, in accordance with the Accomplishment Instructions of Boeing Service Bulletin 747-53A2562, Revision 3, dated July 11, 2013. If any crack or damage is found, before further flight, repair the cracking or damage using a method approved in accordance with the procedures specified in paragraph (p) of this AD. In paragraph 1.E., “Compliance,” of Boeing Service Bulletin 747-53A2562, Revision 3, dated July 11, 2013, the date “December 11, 2006,” is the effective date of AD 2006-22-15, Amendment 39-14812 (71 FR 64884, November 6, 2006).

(j) Repetitive Post-Modification Inspections

For airplanes on which the replacement specified in paragraph (i) of this AD has been done: Except as required by paragraph (k) of this AD, at the applicable time specified in paragraph 1.E., “Compliance,” of Boeing Service Bulletin 747-53A2562, Revision 3, dated July 11, 2013, do the actions specified in paragraphs (j)(1), (j)(2), and (j)(3) of this AD. If any crack is found: Before further flight, repair the cracking using a method approved in accordance with the procedures specified in paragraph (p) of this AD. Repeat the inspections specified in paragraphs (j)(1), (j)(2), and (j)(3) of this AD thereafter at the applicable intervals specified in paragraph 1.E., “Compliance,” of Boeing Service Bulletin 747-53A2562, Revision 3, dated July 11, 2013.

(1) Do an external detailed inspection for cracks in the side panel webs, in accordance with the Accomplishment Instructions of Boeing Service Bulletin 747-53A2562, Revision 3, dated July 11, 2013.

(2) Do an internal detailed inspection and high frequency eddy current (HFEC) inspection for cracks in the top and side panel stiffeners, in accordance with the Accomplishment Instructions of Boeing Service Bulletin 747-53A2562, Revision 3, dated July 11, 2013.

(3) Do an external detailed inspection for cracks in the top panel web, in accordance with the Accomplishment Instructions of Boeing Service Bulletin 747-53A2562, Revision 3, dated July 11, 2013.

(k) Exception to Boeing Service Bulletin 747-53A2562, Revision 3, Dated July 11, 2013

Where paragraph 1.E., “Compliance,” of Boeing Service Bulletin 747-53A2562, Revision 3, dated July 11, 2013, specifies a compliance time relative to the “Revision 3 date of this service bulletin,” this AD requires compliance within the specified compliance time after the effective date of this AD.

(l) NWW Modification for Certain Airplanes

For airplanes identified in Boeing Alert Service Bulletin 747-53A2808, dated November 30, 2012: At the applicable time specified in paragraph 1.E., “Compliance,” of Boeing Alert Service Bulletin 747-53A2808, dated November 30, 2012, replace the left side, right side, and top panels of the NWW, as applicable, with new panels, in accordance with the Accomplishment Instructions of Boeing Alert Service Bulletin 747-53A2808, dated November 30, 2012. Concurrently with doing the replacement specified in this paragraph, do a detailed inspection for cracks of the attaching structural elements that are common to the removed top, left-side, and right-side panels of the NWW, in accordance with the Accomplishment Instructions of Boeing Alert Service Bulletin 747-53A2808, dated November 30, 2012. If any crack is found, before further flight, repair the cracking using a method approved in accordance with the procedures specified in paragraph (p) of this AD.

(m) Repetitive Post-Modification Inspections for Certain Airplanes

For airplanes on which the replacement specified in paragraph (l) of this AD has been done: At the applicable time specified in paragraph 1.E., “Compliance,” of Boeing Alert Service Bulletin 747-53A2808, dated November 30, 2012, do the actions specified in paragraphs (m)(1), (m)(2), and (m)(3) of this AD. If any crack is found: Before further flight, repair the cracking using a method approved in accordance with the procedures specified in paragraph (p) of this AD. Repeat the inspections specified in paragraphs (m)(1), (m)(2), and (m)(3) of this AD thereafter at the applicable intervals specified in paragraph 1.E., “Compliance,” of Boeing Alert Service Bulletin 747-53A2808, dated November 30, 2012.

(1) Do an external detailed inspection for cracks in the side panel webs, in accordance with the Accomplishment Instructions of Boeing Alert Service Bulletin 747-53A2808, dated November 30, 2012.

(2) Do an internal detailed inspection and HFEC inspection for cracks in the top and side panel stiffeners, in accordance with the Accomplishment Instructions of Boeing Alert Service Bulletin 747-53A2808, dated November 30, 2012.

(3) Do an external detailed inspection for cracks in the top panel web, in accordance with the Accomplishment Instructions of Boeing Alert Service Bulletin 747-53A2808, dated November 30, 2012.

(n) Terminating Action for Certain Repetitive Inspections

Replacing the left side, right side, and top panels of the NWW with new panels as specified in paragraph (i) or (l) of this AD terminates the repetitive inspections required by paragraph (g) of this AD.

(o) Credit for Previous Actions

(1) This paragraph restates the credit given in paragraph (k) of AD 2006-22-15, Amendment 39-14812 (71 FR 64884, November 6, 2006).

(i) This paragraph provides credit for the actions required by paragraph (g)(1) of this AD, if those actions were performed before January 27, 2005 (the effective date of AD 2004-25-23, Amendment 39-13911 (69 FR 76839, December 23, 2004)), using Boeing Alert Service Bulletin 747-53A2465, dated April 5, 2001, which is not incorporated by reference in this AD.

(ii) This paragraph provides credit for actions required by paragraphs (g)(1) and (g)(2) of this AD, if those actions were performed before December 11, 2006 (the effective date of AD 2006-22-15, Amendment 39-14812 (71 FR 64884, November 6, 2006)), using a service bulletin identified in paragraph (o)(1)(ii)(A), (o)(1)(ii)(B), or (o)(1)(ii)(C) of this AD, which are not incorporated by reference in this AD.

(A) Boeing Alert Service Bulletin 747-53A2465, Revision 1, dated October 16, 2003.

(B) Boeing Alert Service Bulletin 747-53A2465, Revision 2, dated November 11, 2004.

(C) Boeing Alert Service Bulletin 747-53A2465, Revision 3, dated December 23, 2004.

(2) This paragraph provides credit for the actions required by paragraph (g) of this AD, if those actions were performed before the effective date of this AD using Boeing Alert Service Bulletin 747-53A2465, Revision 4, dated February 24, 2005, which is not incorporated by reference in this AD.

(3) This paragraph provides credit for the actions required by paragraphs (i) and (j) of this AD, if those actions were performed before the effective date of this AD using Boeing Service Bulletin 747-53A2562, Revision 1, dated July 28, 2005; or Boeing Service Bulletin 747-53A2562, Revision 2, dated May 31, 2007; which are not incorporated by reference in this AD.

(p) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (q)(1) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved the Boeing Commercial Airplanes Organization Designation Authorization (ODA) that has been authorized by the Manager, Seattle ACO, to make those findings. For a repair method to be approved, the repair must meet the certification basis of the airplane, and the approval must specifically refer to this AD.

(4) AMOC actions approved previously for AD 2006-22-15, Amendment 39-14812 (71 FR 64884, November 6, 2006), are approved as AMOCs for the corresponding actions of this AD. The compliance times in AMOCs approved previously for AD 2006-22-15 are not approved for the corresponding actions and compliance times in this AD.

(q) Related Information

(1) For more information about this AD, contact Bill Ashforth, Aerospace Engineer, Airframe Branch, ANM-120S, FAA, Seattle ACO, 1601 Lind Avenue SW., Renton, WA 98057-3356; phone: 425-917-6432; fax: 425-917-6590; email: Bill.Ashforth@faa.gov.

(2) For service information identified in this AD, Boeing Commercial Airplanes, Attention: Data & Services Management, P. O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221.

Issued in Renton, Washington, on September 1, 2015.
Michael Kaszycki,
Acting Manager, Transport Airplane Directorate, Aircraft Certification Service.

[FR Doc. 2015-23420 Filed 9-17-15; 8:45 am]

BILLING CODE 4910-13-P